OFFICE OF PERSONNEL MANAGEMENT

5 CFR Part 315

[Docket ID OPM-2025-0140]

RIN 3206-AO85

Sunset of the Pathways Presidential Management Fellows Program; Correction

AGENCY: Office of Personnel Management.

ACTION: Correcting amendments.

SUMMARY: The Office of Personnel Management (OPM) is correcting a final rule that published in the Federal Register and was effective on August 11, 2025. The document rescinded the regulations on the Pathways Presidential Management Fellows Program and made other conforming amendments. The August 11 final rule resulted in an error in the regulatory text, and this final rule corrects that error.

DATES: This final rule is effective on December 10, 2025.

FOR FURTHER INFORMATION CONTACT: Katika Floyd by telephone at (202) 606-0960; or by email at employ@opm.gov.

SUPPLEMENTARY INFORMATION: In the final rule “Sunset of the Pathways Presidential Management Fellows Program” (90 FR 38604; Aug. 11, 2025), OPM erred in its amendments to regulatory text at 5 CFR 315.713. The final rule removed paragraph (a)(3). As a result, paragraph (a)(2) is now the last paragraph and incorrectly retained the word “and”, which needs to be removed and replaced with a “.” to close out the paragraph. Similarly, paragraph (a)(1) needs to have the word “and” added as it is now the penultimate subparagraph in paragraph (a). This final rule corrects those errors.

Procedural Issues and Regulatory Review

A. Administrative Procedure Act

As explained above, this correcting amendment is necessary to correct an editorial error in the final rule. Therefore, OPM has determined, pursuant to 553(b)(3)(B), that prior notice and opportunity for public comment are impractical and unnecessary. Public comment could not inform this process in any meaningful way. We have further determined that, under 5 U.S.C. 553(d)(3), the agency has good cause to make this correction effective upon publication.

B. Regulatory Flexibility Act

This correcting amendment will not have a significant economic effect on a substantial number of small entities under the Regulatory Flexibility Act (5 U.S.C. 601 et seq.).

C. Regulatory Review

OIRA has determined this rule is not a significant regulatory action under E.O. 12866. Therefore, this rule is not an E.O. 14192 regulatory action because it is not significant under E.O. 12866.

D. Federalism

This regulation will not have substantial direct effects on the States, on the relationship between the National Government and the States, or on distribution of power and responsibilities among the various levels of government. Therefore, in accordance with E.O. 13132 (Aug. 10, 1999), it is determined that this rule does not have sufficient federalism implications to warrant preparation of a Federalism Assessment.

E. Civil Justice Reform

This regulation meets the applicable standards set forth in section 3(a) and (b)(2) of E.O. 12988 (Feb. 7, 1996).

F. Unfunded Mandates Reform Act of 1995

This rulemaking will not result in the expenditure by State, local, or tribal governments, in the aggregate, or by the private sector, of more than $100 million annually (adjusted annually for inflation with the base year 1995). Thus, no written assessment of unfunded mandates is required.

G. Congressional Review Act

OMB's Office of Information and Regulatory Affairs has determined this rule does not satisfy the criteria listed in 5 U.S.C. 804(2).

H. Paperwork Reduction Act of 1995 (44 U.S.C. Chapter 35)

This regulatory action will not impose any reporting or recordkeeping requirements under the Paperwork Reduction Act.

List of Subjects in 5 CFR Part 315

Government employees.

Accordingly, 5 CFR part 315 is corrected by making the following correcting amendments:

PART 315—CAREER AND CAREER-CONDITIONAL EMPLOYMENT

1. The authority citation for part 315 continues to read as follows:

Authority: 5 U.S.C. 1302, 3301, and 3302. E.O. 10577, 19 FR 7521, 3 CFR, 1954-1958 Comp., p. 218; E.O. 14284, 90 FR 17729.

Secs. 315.601 and 315.609 also issued under 22 U.S.C. 3651 and 3652.

Secs. 315.602 and 315.604 also issued under 5 U.S.C. 1104.

Sec. 315.603 also issued under 5 U.S.C. 8151.

Sec. 315.605 also issued under E.O. 12034, 43 FR 1917, 3 CFR, 1978 Comp., p. 111.

Sec. 315.606 also issued under E.O. 11219, 30 FR 6381, 3 CFR, 1964-1965 Comp., p. 303.

Sec. 315.607 also issued under 22 U.S.C. 2560.

Sec. 315.608 also issued under E.O. 12721, 55 FR 31349, 3 CFR, 1990 Comp., p. 293.

Sec. 315.610 also issued under 5 U.S.C. 3304(c).

Sec. 315.611 also issued under 5 U.S.C. 3304(f).

Sec. 315.612 also under E.O. 13473, 73 FR 56703, 3 CFR, 2009 Comp., p. 241.

Sec 315.613 also issued under 5 U.S.C. 9602.

Sec. 315.710 also issued under E.O. 12596, 52 FR 17537, 3 CFR, 1987 Comp., p. 264.

Subpart G—Conversion to Career or Career-Conditional Employment From Other Types of Employment

§ 315.713 [Amended]

2. Amend § 315.713 by:

a. Adding “and” at the end of paragraph (a)(1); and

b. Removing “; and” at the end of paragraph (a)(2) and adding a period in its place.

Dated: December 5, 2025.
Office of Personnel Management.
Jerson Matias,
Federal Register Liaison.

[FR Doc. 2025-22411 Filed 12-9-25; 8:45 am]

BILLING CODE 6325-39-P